DEPARTMENT OF ENERGY

Federal Energy Regulatory Commission

[Docket Nos. CP17-494-000, CP17-495-000]

Pacific Connector Gas Pipeline LP; Jordan Cove Energy Project L.P.; Notice of Revised Schedule for the Environmental Review and the Final Order for the Jordan Cove Energy Project

This notice identifies the Federal Energy Regulatory Commission (Commission) staff's revised schedule for the completion of the environmental impact statement (EIS) for the Jordan Cove Energy Project. The first notice of schedule, issued on August 31, 2018, identified August 30, 2019 as the final EIS issuance date. The previous notice states, however, that the forecasted schedule assumes that the cooperating agencies will provide input on their areas of responsibility on a timely basis. Due to the funding lapse at certain federal agencies between December 22, 2018 and January 25, 2019, an extension is required for the cooperating agencies to complete their respective input. Staff has revised the schedule for issuance of the final EIS, based on an issuance of the draft EIS in March 2019.

Schedule for Environmental Review

Issuance of Notice of Availability of the final EIS—October 11, 2019

90-day Federal Authorization Decision Deadline—January 9, 2020

In an additional notice issued on August 31, 2018, the Commission identified November 29, 2019 as the anticipated final order issuance for the Jordon Cove Energy Project. Based on the revised final EIS schedule, the Commission currently anticipates issuing a final order for the project no later than:

Issuance of Final Order—January 9, 2020

If a schedule change becomes necessary, an additional notice will be provided so that the relevant agencies are kept informed of the project's progress.

Additional Information

In order to receive notification of the issuance of the EIS and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select General Search from the eLibrary menu, enter the selected date range and Docket Number excluding the last three digits (i.e., CP17-494 and CP17-495), and follow the instructions. For assistance with access to eLibrary, the helpline can be reached at (866) 208-3676, TTY (202) 502-8659, or at FERCOnlineSupport@ferc.gov. The eLibrary link on the FERC website also provides access to the texts of formal documents issued by the Commission, such as orders, notices, and rulemakings.

Dated: February 28, 2019.
Nathaniel J. Davis, Sr.,
Deputy Secretary.

[FR Doc. 2019-03996 Filed 3-5-19; 8:45 am]

BILLING CODE 6717-01-P